DEPARTMENT OF LABOR

Proposed Information Collection for Workforce Innovation in Regional Economic Development (WIRED) Initiative Evaluation; Comment Request

AGENCY: Employment and Training Administration (ETA), Labor.

ACTION: Notice.

SUMMARY: The Department of Labor (the Department), as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the ETA is soliciting comments on a new data collection for the Workforce Innovation in Regional Economic Development (WIRED) Initiative Evaluation.

A copy of the proposed information collection request (ICR) can be obtained by contacting the office listed below in the addressee section of this notice or by accessing: http://www.doleta.gov/OMBCN/OMBControlNumber.cfm.

DATES: Written comments must be submitted to the office listed in the addressee's section below on or December 8, 2008.

ADDRESSES: Submit written comments to the Employment and Training Administration, Room N-5641, 200 Constitution Avenue, NW., Washington, DC 20210, Attention: Eileen Pederson, Telephone number: 202-693-3647 (this is not a toll-free number), Fax number: 202-693-2766. e-mail: Pederson.eileen@dol.gov.

SUPPLEMENTARY INFORMATION:

I. Background

In February 2006, under authority of Section 414 of the American Competitiveness and Workforce Improvement Act of 1998, the ETA awarded grants to 13 regions across the United States to support community efforts to link their varied knowledge resources with their business and innovation assets, to ensure that their workforces have the skill requirements and knowledge to work effectively in new and emerging industries. At the same time that these grants were awarded, ETA selected another 13 regions to receive $100,000 to support their participation in peer-to-peer grantee conferences and other training opportunities. In early 2007, ETA increased the funds awarded to the second group of regions, at which time they became known as the Generation II regions. Finally, in June 2007, ETA awarded grants to 13 more regions, known as the Generation III regions.

The WIRED Initiative focuses on labor market areas that are comprised of multiple jurisdictions within states or across state borders. It supports innovative approaches for workforce development, training and education that go beyond traditional strategies for preparing workers to compete and succeed both within the United States and globally. Through the initiative, WIRED regions have a unique opportunity to design and implement strategic approaches for coordinating regional economic development, job growth and talent development. For the grant awards, ETA selected regions that demonstrated the presence of labor market elements (unemployment, low-wages, low levels of new job creation) and economic conditions (such as industries that are declining or industries targeted for growth) that drive the need for transformation. In addition, each grant recipient described how the region will: Implement new strategic efforts designed to integrate workforce, economic development and education systems; promote innovation in addressing challenges; and utilize and build upon existing structures, resources, and legislatively-funded programs. Finally, each region outlined the presence of a strategic partnership that is representative of the entire economic region and is comprised of a strong team of leaders which will lead the regional transformation.

This data collection covers qualitative information to be obtained through a survey of key partners and stakeholders in these regional transformation efforts. The WIRED survey will gather information about the nature of regional leaders and their organizations' roles and relationships in the evolving collaborative partnerships. It will provide information about their efforts to achieve regional transformation of workforce development, economic development and related education systems during the period of the Initiative.

The second administration of the survey, approximately six months after Federal funding of the initiative ends, will be to collect information about the sustainability of efforts to work collaboratively to achieve regional transformation, to reveal whether these substantial investments successfully inspired continued efforts to promote integration of regional systems to further talent development.

Subsequent to awarding the Generation I grants in early 2006, the ETA has expended considerable effort to promote the importance of collaboration for guiding future talent development, and to encourage creative efforts to initiate and bring new partners into networks created to transform a region, including partners who do not receive direct funding through the WIRED collaborative. Thus, it is anticipated that Generations II and III regional efforts may be affecting entities that are not directly involved in the federally-funded transformation efforts, spearheaded by this initiative. In addition, ETA substantially reduced the amount of funding for Generations II and III, thereby leading many of these regions to partner with entities which also have a vested interest in achieving long-term regional economic success and stability. A pre-WIRED survey, the screener survey, will first be administered in the Generation II and III regions in order to gather information about how widely disbursed the ongoing efforts are to transform these regions' economic, education and workforce development systems, including those which receive direct funding and those who do not receive direct funding, but which benefit from the initiative's increased collaboration for regional growth. The screener survey will be administered to a wide range of regional leaders to identify the range of organizations involved in regional transformation. In doing so, it will identify the key individuals and organizations that support the transformative efforts, and who will then be administered the WIRED survey.

II. Review Focus

The Department is particularly interested in comments which:

• Evaluate whether the proposed collection of information is necessary for the proper performance and functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: New.

Agency: Employment and Training Administration.

Title: Workforce Innovation in Regional Economic Development (WIRED) Initiative Evaluation.

OMB Number: 1205-0NEW.

Recordkeeping: NA.

Affected Public: State, local, or tribal government; business or other for-profit; and not-for-profit institutions.

Total Respondents: Approximately 4,160 for the screener survey and 7,800 for the WIRED survey. Both surveys will be administered twice.

Survey type | Number of respondents | Per survey administration
Screener Survey (for Generations II and III) | 4,160 | 2,080
WIRED Survey (for Generations I, II, and III) | 7,800 | 3,900

Frequency: As noted, each survey will be administered two times. The first screener survey will be administered while the Generation II and III grants are operating, in early 2009. The second administration of the screener survey to the Generation II and III regions will be approximately six months after the grants expire, in 2011. The WIRED survey will also be administered two times, in 2009 and again in 2011.

Screener survey: Year | Screener survey: Group of regions | Screener survey: Number of respondents | Screener survey: Average time per response (in minutes) | Screener survey: Annual burden (in hours)
2009 | Gen. II | 1,040 | 5 | 173
| Gen. III | 1,040 | 5
2011 | Gen. II | 1,040 | 5 | 173
| Gen. III | 1,040 | 5
Two-Year Total |  | 4,160 |  | 346

WIRED survey: Year | WIRED survey: Group of regions | WIRED survey: Number of respondents | WIRED survey: Average time per response (in minutes) | WIRED survey: Annual burden (in hours)
2009 | Gen. I | 1,300 | 30 | 1,950
| Gen. II | 1,300 | 30
| Gen. III | 1,300 | 30
2011 | Gen. I | 1,300 | 30 | 1,950
| Gen. II | 1,300 | 30
| Gen. III | 1,300 | 30
Two-Year Total |  | 7,800 |  | 3,900

Total Annual Responses: An average of approximately 2,080 for the screener survey and 3,900 for the WIRED survey.

Average Time per Response: Five (5) minutes for the screener survey and thirty (30) minutes for the WIRED survey.

Estimated Total Burden Hours: The total annual burden hours is estimated to be 346 hours for the screener survey and 3,900 hours for the WIRED survey.

Total Burden Cost: The total burden cost, based on an annual average salary of $75,000 per respondent, is estimated to be $12,528 for the screener survey and $140,400 for the WIRED survey, per the following tables.

Screener survey: Year | Screener survey: Group of regions | Screener survey: Annual burden (in hours) | Screener survey: Average cost per hour | Screener survey: Annual burden cost
2009 | Generation II | 87 | $36 | $6,264
| Generation III | 87 | 36
2011 | Generation II | 87 | 36 | 6,264
| Generation III | 87 | 36
Total |  | 348 |  | 12,528

WIRED survey: Year | WIRED survey: Group of regions | WIRED survey: Annual burden (in hours) | WIRED survey: Average cost per hour | WIRED survey: Annual burden cost
2009 | Generation I | 650 | $36 | $70,200
| Generation II | 650 | 36
| Generation III | 650 | 36
2011 | Generation I | 650 | 36 | 70,200
| Generation II | 650 | 36
| Generation III | 650 | 36
Total |  | 3,900 |  | 140,400

Comments submitted in response to this request will be summarized and/or included in the request for Office of Management and Budget approval of the information collection request; they will also become a matter of public record.

Dated: October 2, 2008.
Douglas F. Small,
Deputy Assistant Secretary, Employment and Training Administration.

[FR Doc. E8-23942 Filed 10-8-08; 8:45 am]

BILLING CODE 4510-FN-P